GENERAL SERVICES ADMINISTRATION

[OMB Control No. 3090-0118; Docket No. 2023-0001; Sequence No. 3]

Submission for OMB Review; Federal Management Regulation; Statement of Witness; Standard Form 94

AGENCY: Office of Government-wide Policy (OGP), General Services Administration (GSA).

ACTION: Notice.

SUMMARY: Under the provisions of the Paperwork Reduction Act, the Regulatory Secretariat Division invites members of the public to comment on an extension to an existing information collection requirement regarding OMB Control No. 3090-0118, Statement of Witness, Standard Form 94.

DATES: Submit comments on or before December 27, 2023.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Mr. Ray Wynter, GSA, OGP, Office of Asset and Transportation Management, at telephone 202-501-3802 or via email to ray.wynter@gsa.gov.

SUPPLEMENTARY INFORMATION:

A. Purpose

GSA's Office of Government-wide Policy is announcing the availability of Standard Form 94, Statement of Witness that is publicly available on http://www.gsa.gov/forms. This form will be used to collect information from witnesses reporting accidents and/or damage to Federal Fleet Vehicles. Standard Form (SF) 94 provides additional accounts of motor vehicle accidents that supplement statements made by a motor vehicle operator. Use of the SF 94 is prescribed in Federal Management Regulation, 41 CFR 102-34.290(b) and Federal Property Management Regulations, 41 CFR 101-39.401(b). The SF 94 is usually completed at the time of an accident involving a motor vehicle owned or leased by the Government.

The SF 94 is an essential part of the investigation of motor vehicle accidents, especially those involving the public with a potential for claims against the United States. It is a vital piece of information in lawsuits and provides the Assistant United States Attorneys with a written statement to refresh recollection of accidents, as necessary.

B. Annual Reporting Burden

Respondents: 290.

Responses per Respondent: 1.

Total Annual Responses: 290.

Hours per Response: 0.333.

Total Burden Hours: 97.

C. Public Comments

A 60-day notice published in the Federal Register at 88 FR 64912 on September 20, 2023. No public comments were received.

Obtaining Copies of Proposals: Requesters may obtain a copy of the information collection documents from the Regulatory Secretariat Division, at GSARegSec@gsa.gov. Please cite OMB Control No. 3090-0118, Statement of Witness, Standard Form 94, in all correspondence.

Lesley Briante,
Acting Deputy Chief Information Officer.

[FR Doc. 2023-26036 Filed 11-24-23; 8:45 am]

BILLING CODE 6820-14-P